DEPARTMENT OF AGRICULTURE

Food and Nutrition Service

Agency Information Collection Activities: Recordkeeping of D-SNAP Benefit Issuance and Commodity Distribution for Disaster Relief

AGENCY: Food and Nutrition Service (FNS), USDA.

ACTION: Notice.

SUMMARY: In accordance with the Paperwork Reduction Act of 1995, this notice invites the general public and other public agencies to comment on this proposed information collection. This collection is a revision of a currently approved collection. This information collection addresses the recordkeeping burden associated with forms FNS-292A (Report of Commodity Distribution for Disaster Relief) and FNS-292B (Report of Disaster Supplemental Nutrition Assistance Benefit Issuance). The reporting burden for these forms, which we are not seeking in this request, are already approved under OMB Control Number: 0584-0594; Expiration Date: 07/31/2023.

DATES: Written comments must be received on or before February 1, 2021.

ADDRESSES: The Food and Nutrition Services, USDA, invites interested persons to submit written comments.

• Preferred Method: Go to http://www.regulations.gov, and follow the online instructions for submitting comments electronically.

• Regarding recordkeeping for form FNS-292A may be sent to Amanda Tucker, Program Analyst, Policy Branch, Food Distribution Division, Braddock Metro Center II, 1320 Braddock Place, Alexandria, VA 22314, U.S. Department of Agriculture, or via email to Amanda.Tucker@usda.gov.

• Regarding recordkeeping for form FNS-292B may be sent to Certification Policy Branch, Program Development Division, Braddock Metro Center II, 1320 Braddock Place, Alexandria, VA 22314.

All responses to this notice will be summarized and included in the request for Office of Management and Budget (OMB) approval. All comments will be a matter of public record.

FOR FURTHER INFORMATION CONTACT: Requests for additional information or copies of this information collection should be directed to:

Regarding recordkeeping for form FNS-292A may be sent to Amanda Tucker, Program Analyst, Food Distribution Division, Food and Nutrition Service, U.S. Department of Agriculture, via email to Amanda.Tucker@usda.gov, or phone 202-720-6051.

Regarding recordkeeping for form FNS-292B may be sent to Certification Policy Branch, Program Development Division, Braddock Metro Center II, 1320 Braddock Place, Alexandria, VA 22314, or via email to SNAPCBPRules@usda.gov.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Report of Disaster Supplemental Nutrition Assistance Program Benefit Issuances and Report of Commodity Distribution for Disaster Relief.

Form Number: FNS-292A and FNS-292B.

OMB Number: 0584-0037.

Expiration Date: 2/28/2021.

Type of Request: Revision of a currently approved collection.

Abstract: This information collection pertains only to the recordkeeping burden associated with forms FNS-292A and FNS-292B. The reporting burden associated with these forms is approved under OMB No. 0584-0594 (Food Program Reporting System; expiration date: 7/31/2023). The Food and Nutrition Service (FNS) utilizes forms FNS-292A and FNS-292B to collect information not otherwise available on the extent of FNS-funded disaster relief operations.

The total number of respondents who could utilize commodities for disaster relief is approximately 190 State agencies and Indian Tribal Organizations administering the Commodity Supplemental Food Program (CSFP), the Emergency Food Assistance Program (TEFAP), the Food Distribution Program on Indian Reservations (FDPIR), or the USDA Foods in Schools program. However, the total number of State agencies potentially using this form in a given year is 108 (55 Food Distribution State agencies for Form FNS-292A; and, 53 State SNAP agencies will maintain the Form FNS-292B).

Form FNS-292A, Report of Commodity Distribution for Disaster Relief, is used by State distributing agencies, including Indian Tribal Organizations administering FDPIR or CSFP, to provide a summary report to FNS following termination of disaster commodity assistance and to request replacement of donated foods distributed during the disaster or situation of distress. Donated food distribution in disaster situations is authorized under Section 32 of the Act of August 24, 1935 (7 U.S.C. 612c); Section 416 of the Agricultural Act of 1949 (7 U.S.C. 1431); Section 709 of the Food and Agriculture Act of 1965 (7 U.S.C. 1446a-1); Section 4(a) of the Agriculture and Consumer Protection Act of 1973 (7 U.S.C. 612c note); and by Sections 412 and 413 of the Robert T. Stafford Disaster Relief and Emergency Assistance Act (42 U.S.C. 5179, 5180). Program implementing regulations are contained in Part 250 of Title 7 of the Code of Federal Regulations (CFR). In accordance with 7 CFR 250.69(f) and 7 CFR 250.70(f), State distributing agencies shall provide a summary report to FNS within 45 days following termination of the disaster assistance, and maintain records of these reports and other information relating to disasters. The number of disasters that will result in a State distributing agency requesting to operate a disaster commodity assistance in a given year is impossible to predict. However, 55 is the maximum number of State distributing agencies that have ever utilized disaster commodity assistance in a given year. Accordingly, FNS is estimating this burden by assuming that, at maximum, 55 State distributing agency will distribute donated foods during a disaster or situation of distress once per year.

Form FNS-292B, Report of Disaster Supplemental Nutrition Assistance Benefit Issuance, is used by 53 State SNAP agencies to report to FNS the number of households and persons certified for Disaster Supplemental Nutrition Assistance Program (D-SNAP) benefits as well as the value of benefits issued. D-SNAP is a separate program from the Supplemental Nutrition Assistance Program (SNAP) and is authorized by Sections 402 and 502 of the Robert T. Stafford Disaster Relief and Emergency Assistance Act (42 U.S.C. 5121 et seq.) and the temporary emergency provisions contained in Section 5 of the Food and Nutrition Act of 2008, and in 7 CFR part 280 of the SNAP regulations. State agencies may request FNS approval to operate a D-SNAP to address the temporary food needs of certain households in affected areas following a disaster after certain criteria is met. If approved to operate D-SNAP by FNS, a State agency must submit its final FNS-292B to FNS within 45 days of terminating D-SNAP operations, and maintain records of this report. Similarly, the number of disasters that result in a State SNAP agency requesting to operate D-SNAP in a given year is impossible to predict. However, FNS is estimating this burden assuming that, at maximum, each of the 53 State SNAP agencies will request and be approved to operate D-SNAP once per year.

Affected Public: State agencies that administer FNS disaster food relief activities.

Estimated Number of Respondents: 108 State agencies: 55 Food Distribution State agencies for Form FNS-292A; 53 State SNAP agencies for Form FNS-292B.

Estimated Number of Responses per Respondent: 1 recordkeeping response per State distributing agency; 1 recordkeeping responses per State SNAP agency.

Estimated Total Annual Responses: 108.

Estimated Time per Response: Recordkeeping burden for the State agencies is estimated to be 5 minutes (.0835 hours) per form FNS-292A per State distributing agency respondent, and 5 minutes (.0835 hours) per form FNS-292B per State SNAP agency respondent.

Estimated Total Annual Burden on Respondents: Recordkeeping burden for the State agencies is estimated to be 4.59 total annual hours for respondents using FNS-292A, and 4.426 total annual burden estimates for respondents using FNS-292B, for a combined total of 9.02 total annual burden hours rounded down to 9 total annual burden hours.

Respondent category | Type of respondents (optional) | Instruments | Form | Number of respondents | Frequency of response | Total annual responses | Hours per response | Annual burden (hours)
State Government | Food Distribution State Agencies Staff | Commodity Distribution Form FNS-292A | FNS-292A | 55 | 1 | 55 | 0.0835 | 4.59
State Government | SNAP State Agencies Staff | D-SNAP Benefit Issuance Form FNS 292-B | FNS-292B | 53 | 1 | 53 | 0.0835 | 4.426
Total |  |  |  | 108 | 1.000 | 108 | 0.084 | 9.02

Pamilyn Miller,
Administrator, Food and Nutrition Service.

[FR Doc. 2020-26375 Filed 11-30-20; 8:45 am]

BILLING CODE 3410-30-P